COMMISSION ON CIVIL RIGHTS

Agenda and Notice of Public Meeting of the Delaware Advisory Committee

Notice is hereby given, pursuant to the provisions of the rules and regulations of the U.S. Commission on Civil Rights, that a meeting of the Delaware Advisory Committee to the Commission will convene at 2:00 p.m. and adjourn at 6:00 p.m. on August 25, 2000, at the University of Delaware, Black Studies Department, 420 Ewing Hall, Conference Room 416, Newark, Delaware 19716. The purpose of the meeting is to: (1) review the current project, “Citizens Reference Guide to Civil Rights in Delaware”, (2) discuss civil rights developments, and (3) plan new projects.

Persons desiring additional information, or planning a presentation to the Committee, should contact Committee Chairperson James Newton, 302-831-8683, or Edward Darden, Civil Rights Analyst of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, July 21, 2000.
Edward A. Hailes, Jr.,
Acting General Counsel.

[FR Doc. 00-18984 Filed 7-26-00; 8:45 am]

BILLING CODE 6335-01-P